DEPARTMENT OF HOMELAND SECURITY

Departmental Advisory Committee on Commercial Operations of Customs and Border Protection and Related Functions (COAC)

ACTION: Notice of meeting and announcement of membership.

SUMMARY: This notice announces the date, time, and location for the first meeting of the ninth term of the Departmental Advisory Committee on Commercial Operations of Customs and Border Protection and Related Functions (COAC) and the expected agenda for its consideration. It also announces the new members of the committee.

DATES: The next meeting of the COAC will be held on Tuesday, February 15, 2005, 9 a.m. to 1 p.m.

ADDRESSES: The meeting of the Departmental Advisory Committee on Commercial Operations of Customs and Border Protection and Related Functions (COAC) will be held in The Ronald Reagan International Trade Center Horizon Ballroom, 1300 Pennsylvania Avenue, NW., Washington, DC 20229 (phone 202-344-1440; fax 202-344-1969).

FOR FURTHER INFORMATION CONTACT: Ms. Monica Frazier, Office of the Assistant Secretary for Border and Transportation Security, Department of Homeland Security, Washington, DC 20528; telephone (202) 282-8431; facsimile (202) 282-8504.

SUPPLEMENTARY INFORMATION: The first meeting of the ninth term of Departmental Advisory Committee on Commercial Operations of Customs and Border Protection and Related Functions (COAC) will be held at the date, time and location specified above. This notice announces the expected agenda for its consideration and the new members of the committee. This meeting is open to the public; however, participation in COAC deliberations is limited to COAC members, Homeland Security and Treasury Department officials, and persons invited to attend the meeting for special presentations. Since seating is limited, all persons attending this meeting should provide notice by 2 p.m. e.s.t. on Wednesday, February 9, 2005, to Ms. Monica Frazier, Office of the Assistant Secretary for Border and Transportation Security, Department of Homeland Security, Washington, DC 20528; telephone (202) 282-8431; facsimile (202) 282-8504.

Information on Services for Individuals with Disabilities: For information on facilities or services for individuals with disabilities or to request special assistance at the meeting, contact Ms. Monica Frazier, Office of the Assistant Secretary for Border and Transportation Security, Department of Homeland Security, Washington, DC 20528; telephone (202) 282-8431; facsimile (202) 282-8504, as soon as possible.

Draft Agenda: The COAC is expected to pursue the following agenda, which may be modified prior to the meeting:

1. MTSA Subcommittee.

2. Security Subcommittee.

a. Advance Cargo Information.

b. WCO Security.

c. C-TPAT Process Review.

3. Automation Issues.

a. ACE funding and development schedule.

b. ACS downtime.

4. International Trade Data System (ITDS).

5. Creation of Infrastructure Subcommittee.

6. Bioterrorism Act.

7. Focused Assessment Program.

Membership: The twenty members for the ninth term of COAC are: Anthony Barone, Pfizer; Sandra M. Fallgatter, JC Penny Purchasing Corp.; Jonathan Gold, Retail Industry Leaders Assn.; D. Scott Johnson, Gap, Inc.; Chris Koch, World Shipping Council; Marian Ladner, Strasburger and Price; Bruce Leeds, Boeing; Mary Jo Muoio, Barthco International, Inc.; Karen Phillips, Canadian National; Peggy Rutledge, Hapag-Lloyd Container Line; Norman Schenk, United Parcel Service; Lisa Schimmelpfenning, Wal-Mart Stores; Robert Schueler, Jr., Delphi Corporation; Kevin M. Smith, General Motors Corp.; Curtis Spencer, IMS Worldwide; Katherine M. Terricciano, Philips Electronics N. America; Thomas G. Travis, Sandler, Travis & Rosenberg; Henry White, Institute of International Container Lessors; J Michael Zachary, Port of Tacoma; Federico Zúñiga, National Customs Brokers and Forwarders Association of America.

Dated: January 26, 2005.
C. Stewart Verdery, Jr.,
Assistant Secretary for Border and Transportation Security Policy and Planning.

[FR Doc. 05-1769 Filed 1-28-05; 8:45 am]

BILLING CODE 4810-25-P